DEPARTMENT OF STATE

[Public Notice 3269]

Amendment to Culturally Significant Objects Imported for Exhibition; Determinations: “Kremlin Gold—1000 Years of Russian Gems & Jewels”

AGENCY: Department of State.

ACTION: Amendment.

SUMMARY: On March 2, 2000, Public Notice 3237 was published on page 11362 of the Federal Register (Volume 65, Number 42) by the Department of State pursuant to Pub. L. 89-259 relating to the exhibit “Kremlin Gold—1000 Years of Russian Gems & Jewels.” In error, the notice places the Houston Museum in Chicago. The correct location is Houston, Texas.

Dated: March 22, 2000.
William B. Bader,
Assistant Secretary for Educational and Cultural Affairs, U.S. Department of State.

[FR Doc. 00-7863 Filed 3-29-00; 8:45 am]

BILLING CODE 4710-08-P